DEPARTMENT OF COMMERCE

National Oceanic and Atmospheric Administration

Agency Information Collection Activities; Submission to the Office of Management and Budget (OMB) for Review and Approval; Comment Request; Pribilof Islands, Taking for Subsistence Purposes

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before October 11, 2022.

ADDRESSES: Interested persons are invited to submit written comments to Adrienne Thomas, NOAA PRA Officer, at NOAA.PRA@noaa.gov. Please reference OMB Control Number 0648-0699 in the subject line of your comments. Do not submit Confidential Business Information or otherwise sensitive or protected information.

FOR FURTHER INFORMATION CONTACT: Requests for additional information or specific questions related to collection activities should be directed to Michael T. Williams, Pribilof Islands Program Manager, 222 W 7th Ave., Anchorage, AK 99513, (907) 271-5117, Michael.Williams@noaa.gov.

SUPPLEMENTARY INFORMATION:

I. Abstract

This request is for revision and extension of a currently approved collection. The subsistence use of northern fur seals is cooperatively managed by the National Oceanic and Atmospheric Administration's (NOAA) National Marine Fisheries Service (NMFS) and the Tribal Governments of St. Paul and St. George Islands under § 119 of the Marine Mammal Protection Act, 16 U.S.C. 1388 (MMPA) and governed by regulations found in 50 CFR part 216 subpart F, Taking for Subsistence Purposes under the Fur Seal Act (16 U.S.C. 1155). The regulations, laws, and cooperative agreements are focused on conserving northern fur seals through cooperative effort and consultation regarding effective management of human activities related to the subsistence harvests of northern fur seals and Steller sea lions. In 2014, NMFS obtained a collection of information control number (79 FR 65327; November 4, 2014), reviewed the control number in 2017 (82 FR 51218; November 3, 2017), updated the control number in 2019 (84 FR 52372; October 2, 2019, and corrected in 2020 (85 FR 15948; March 20, 2020).

This an information collection for the annual subsistence use male northern fur seals by Alaska Natives (Pribilovians) residing in the communities of St. Paul and St. George, Alaska (Pribilof Islands) under 50 CFR 216 part 216 subpart F. NMFS established regulations regarding the maximum levels for the annual subsistence needs of the Pribilovians after direct consultation with the Tribal Governments of St. Paul and St. George Islands in Alaska and their respective local Native corporations (Tanadgusix and Tanaq). NMFS regulation creates independent northern fur seal subsistence seasons on St. Paul and St. George islands to include male fur seals less than 7 years old, limits on accidental mortality of female northern fur seals, monitoring and reporting through co-management processes established under their respective cooperative agreements. The regulations at 50 CFR 216.72 state that Pribilovians are responsible for reporting their subsistence needs and actual level of subsistence take. NMFS receives electronic copies of the northern fur seal subsistence use reports from the tribal governments of St. Paul and St. George annually. NMFS subsequently posts these reports online (https://www.fisheries.noaa.gov/alaska/marine-mammal-protection/northern-fur-seal-subsistence-harvest-estimates-and-reports) and includes the relevant data in the annual Alaska Marine Mammal Stock Assessment Report.

The only change requested to the collection of information at this time is the changing of the collection title from “Annual Northern Seal Subsistence Harvest Reporting” to “Pribilof Islands, Taking for Subsistence Purposes.”

II. Method of Collection

NMFS receives electronic copies of the northern fur seal subsistence use reports from the tribal governments of St. Paul and St. George annually via email.

III. Data

OMB Control Number: 0648-0699.

Form Number(s): None.

Type of Review: Regular submission (revision of a current information collection).

Affected Public: Individuals or households, and State, Local or Tribal Government.

Estimated Number of Respondents: 2.

Estimated Time per Response: Subsistence use report submitted via email estimated to take 40 hours per response for each respondent. The St. George Island Traditional Council submits two reports annually and the Aleut Community of St. Paul Island submits three reports annually.

Estimated Total Annual Burden Hours: 200 hours.

Estimated Total Annual Cost to Public: $80.

Respondent's Obligation: Required to Obtain or Retain Benefits.

Legal Authority: Fur Seal Act (16 U.S.C. 1155).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-17201 Filed 8-9-22; 8:45 am]

BILLING CODE 3510-22-P